DEPARTMENT OF DEFENSE

Department of the Navy

32 CFR Part 700

RIN 0703-AA71

United States Navy Regulations

AGENCY: Department of the Navy, DOD.

ACTION: Final rule.

SUMMARY: The Department of the Navy is amending the Navy Regulations, incorporating new subparts, and modifying some existing subparts. This revision will allow the published Navy Regulations to comport with the 1990 Navy Regulations currently in use.

DATES: Effective January 21, 2003.

FOR FURTHER INFORMATION CONTACT: LCDR Jason Baltimore, Legislation and Regulations Branch, Administrative Law Division (Code 13), Office of the Judge Advocate General, 1322 Patterson Avenue SE., Suite 3000, Washington Navy Yard, DC 20374-5066, (703) 604-8208.

SUPPLEMENTARY INFORMATION: On 14 September 1990, the Secretary of the Navy (SECNAV) issued, revised, and amended Navy Regulations (NAVREGS) in accordance with 10 U.S.C Section 6011. These regulations superseded the NAVREGS that were amended in 1978. Since that time, one revision, which reflected changes to the NAVREGS, was published in the Federal Register, 64 FR 56061, Oct. 15, 1999. Since the 1999 revision, no additional changes have been published to reflect the current NAVREGS. In accordance with 5 U.S.C. Section 552, the Department of the Navy seeks to publish additional changes to these regulations. It has been determined that invitation of public comment on these changes to the NAVREGS prior to adoption would be impractical and unnecessary, and is therefore not required under the public rule—making provisions of 32 CFR parts 336 and 701. However, interested persons are invited to comment in writing. Written comments received will be considered in making amendments or revisions to 32 CFR 700 or the NAVREGS upon which it is derived. It has been determined that this final rule is not a major rule within the criteria specified in Executive Order 12291 and does not have substantial impact on the public. This submission is a statement of policy and as such can be effective upon publication in the Federal Register.

Matters of Regulatory Procedure

Executive Order 12866, Regulatory Planning and Review

This rule does not meet the definition of “significant regulatory action” for purposes of E.O. 12866.

Regulatory Flexibility Act

This rule will not have a significant economic impact on a substantial number of small entities for purposes of the Regulatory Flexibility Act (5 U.S.C. Chapter 6).

Paperwork Reduction Act

This rule does not impose collection of information requirements for purposes of the Paperwork Reduction Act (44 U.S.C. Chapter 35, 5 CFR part 1320).

List of Subjects in 32 CFR Part 700

Armed Forces.

For the reasons set forth in the preamble, the Department of the Navy revises 32 CFR part 700 to read as follows:

PART 700—[AMENDED]

1. Section 700.405, paragraph (c)(9) is amended by removing the “.” and adding a “;” at the end of the paragraph; by adding paragraph (c)(10); and by revising paragraph (d)(3) to read as follows:

§ 700.405 Delegated authority and responsibility.

* * * * *

(c) * * *

(10) To exercise authority for intelligence within the Navy.

(d) * * *

(3) Matters essential to naval military administration, such as:

(i) Security;

(ii) Discipline;

(iii) Communications; and

(iv) Matters related to the customs and traditions of the naval service.

* * * * *

2. Section 700.505 is amended by redesignating paragraph (b)(5) as paragraph (b)(6); and adding a new (b)(5) to read as follows:

§ 700.505 Delegated authority and responsibility.

* * * * *

(b)* * *

(5) To exercise authority for intelligence within the Marine Corps.

* * * * *

3. Section 700.701 is amended by revising paragraph (a) to read as follows:

§ 700.701 Titles of Commanders.

(a) The commander of a principal organization of the operating forces of the Navy, as determined by the Chief of Naval Operations, or the officer who has succeeded to such command as provided elsewhere in these regulations, shall have the title “Commander.” The name of the organization under the command of such an officer shall be added to form his or her official title, e.g., “Commander, U.S. Atlantic Fleet.” Commander, U.S. Atlantic Fleet, Commander, U.S. Pacific Fleet, and Commander, U.S. Naval Forces Europe, may also be referred to as a “Geographic Fleet Commander.”

* * * * *

4. Section 700.1053 is amended by revising paragraph (a) to read as follows:

§ 700.1053 Commander of a task force.

(a) A geographic fleet commander, and any other naval commander, may detail in command of a task force, or other task command, any eligible officer within his or her command whom he or she desires. All other officers ordered to the task force or the task command shall be considered subordinate to the designated commander.

* * * * *

Dated: January 7, 2003.
J.T. Baltimore,
Lieutenant Commander, Judge Advocate General's Corps, U.S. Navy, Alternate Federal Register Liaison Officer.

[FR Doc. 03-1045 Filed 1-17-03; 8:45 am]

BILLING CODE 3810-FF-P